NUCLEAR WASTE TECHNICAL REVIEW BOARD

September 20, 2004—Las Vegas, Nevada: The U.S. Nuclear Waste Technical Review Board Will Meet With the Department of Energy (DOE) and Interested Parties To Discuss the Processes Used To Develop and Review the DOE's Total System Performance Assessment of the Proposed Yucca Mountain Repository Site

Pursuant to its authority under section 5051 of Public Law 100-203, Nuclear Waste Policy Amendments Act of 1987, the U.S. Nuclear Waste Technical Review Board will meet in Las Vegas, Nevada, on Monday, September 20, 2004. The primary focus of the meeting will be an overview of the purpose, scope, methodology, criteria, and modeling of the Department of Energy's (DOE) Total System Performance Assessment (TSPA) of the Yucca Mountain site. Other issues pertinent to a proposed repository at Yucca Mountain in Nevada are scheduled to be discussed, including repository design and DOE activities related to seismic issues. The meeting will be open to the public, and opportunities for public comment will be provided. The Board is charged by Congress with reviewing the technical and scientific validity of activities undertaken by the DOE related to nuclear waste disposal as stipulated in the Nuclear Waste Policy Amendments Act of 1987.

The meeting is scheduled to begin at 8 a.m. and to continue until approximately 5:30 p.m. It will be held at the Atrium Suites Hotel (formerly the Crowne Plaza Hotel); 4255 South Paradise Road; Las Vegas, NV 89109; (tel.) 702-369-4400; (fax) 702-369-3770.

The meeting will begin with DOE program and project updates for fiscal year 2005. The updates will be followed by discussions of the repository design that the DOE intends to carry forward in a Yucca Mountain license application and of activities that the DOE is undertaking related to seismic issues. After lunch, the focus will be on the DOE's TSPA for a Yucca Mountain repository. The DOE will begin the session with presentations on the purpose and scope of TSPA; regulatory requirements related to TSPA; the approach and methodology used to conduct the TSPA; and the development of TSPA models, including changes from the last TSPA. Following these presentations, representatives from the Nuclear Regulatory Commission (NRC) have been invited to comment on the TSPA process and criteria from the NRC's perspective. The Electric Power Research Institute also has been asked to present the latest version of its TSPA. Changes may be made to this tentative meeting agenda. A final agenda detailing meeting times, topics, and participants will be available approximately one week before the meeting date. Copies of the meeting agenda can be requested by telephone or obtained from the Board's Web site at http://www.nwtrb.gov.

Time will be set aside at the end of the day on Monday for public comments. Those wanting to speak are encouraged to sign the “Public Comment Register” at the check-in table. A time limit may have to be set on individual remarks, but written comments of any length may be submitted for the record. Interested parties also will have the opportunity to submit questions in writing to the Board. As time permits, submitted questions relevant to the discussion may be asked by Board members.

Transcripts of the meetings will be available on the Board's Web site, by e-mail, on computer disk, and on a library-loan basis in paper format from Davonya Barnes of the Board's staff, beginning on October 18, 2004.

A block of rooms has been reserved at the Atrium Suites Hotel for meeting participants. When making a reservation, please state that you are attending the Nuclear Waste Technical Review Board meeting. Reservations should be made by September 3, 2004, to ensure receiving the meeting rate.

For more information, contact Karyn Severson, NWTRB External Affairs; 2300 Clarendon Boulevard; Suite 1300; Arlington, VA 22201-3367; (tel.) 703-235-4473; (fax) 703-235-4495.

Dated: August 11, 2004.
Karyn D. Severson,
Director, External Affairs, Nuclear Waste Technical Review Board.

[FR Doc. 04-19015 Filed 8-18-04; 8:45 am]

BILLING CODE 6820-AM-M